DEPARTMENT OF THE INTERIOR

Fish and Wildlife Service

Notice of Scoping Meetings and Intent To Prepare an Environmental Assessment for the Proposed Designation of Critical Habitat for the Southwestern Willow Flycatcher

AGENCY: Fish and Wildlife Service, Interior.

ACTION: Notice of intent.

SUMMARY: We, the Fish and Wildlife Service (Service), are providing this notice to advise the public that a draft environmental assessment will be prepared, pursuant to the National Environmental Policy Act (NEPA) of 1969, as amended (42 U.S.C. 432 et seq.), in conjunction with a proposed rule to designate critical habitat for the southwestern willow flycatcher (flycatcher) (Empidonax trailli extimus) under section 4 of the Endangered Species Act of 1973, as amended (Act). The historical range of the flycatcher includes southern California; Arizona; New Mexico; southern Nevada, Utah, and Colorado; and west Texas. We will hold eight public informational sessions and scoping meetings (see DATES and ADDRESSES sections).

Through this notice and the public scoping meetings, we are seeking comments or suggestions from the public, other concerned governmental agencies, tribes, the scientific community, the business community, or any other interested parties concerning the scope of the environmental analysis, including the alternatives that should be analyzed.

DATES: Comments must be submitted directly to the Service (see ADDRESSES section) on or before March 8, 2004, or at any of the eight scoping meetings to be held in January and February 2004.

We will hold public informational sessions followed by scoping meetings in a workshop format at the following dates and times:

1. January 26, 2004: Phoenix, AZ.

Informational session: 6:30 p.m.

Scoping meeting: 7 p.m.

2. January 27, 2004: Silver City, NM.

Informational session: 6:30 p.m.

Scoping meeting: 7 p.m.

3. January 28, 2004: Albuquerque, NM.

Informational session: 6:30 p.m.

Scoping meeting: 7 p.m.

4. January 29, 2004: Alamosa, CO.

Informational session: 6:30 p.m.

Scoping meeting: 7 p.m.

5. February 2, 2004: Las Vegas, NV.

Informational session: 6:30 p.m.

Scoping meeting: 7 p.m.

6. February 3, 2004: Lake Isabella, CA.

Informational session: 6:30 p.m.

Scoping meeting: 7 p.m.

7. February 4, 2004: Corona/City of Chino, CA.

Informational session: 6:30 p.m.

Scoping meeting: 7 p.m.

8. February 5, 2004: Escondido, CA.

Informational session: 6:30 p.m.

Scoping meeting: 7 p.m.

ADDRESSES:

Meetings

The public informational sessions and scoping meetings will be held at the following locations:

1. Phoenix, AZ: Fraternal Order of Police Lodge No. 2, 12851 N. 19th Ave., Phoenix, AZ 85029-2654.

2. Silver City, NM: Flame Convention Center, 2800 Pinos Altos Road (West of 32nd St. & Hwy. 180), Silver City, NM 88061.

3. Albuquerque, NM: Indian Pueblo Cultural Center, 2401 12th Street NW., Albuquerque, NM 87104.

4. Alamosa, CO: Alamosa Family Recreation Center, 2222 Old Sanford Road, Alamosa, CO 81101.

5. Las Vegas, NV: Bureau of Land Management Building, 4701 N. Torrey Pines Drive, Las Vegas, NV 89130.

6. Lake Isabella, CA: Lake Isabella Senior Center, Veteran's Facility, Room 1, 6405 Lake Isabella Blvd., Lake Isabella, CA 93240.

7. Corona/City of Chino, CA: El Prado Golf Course, 6555 Pine Avenue Chino, CA 91710.

8. Escondido, CA: Escondido Center for the Arts, 340 N. Escondido Blvd., Escondido, CA 92025.

Information, comments, or questions related to preparation of the draft environmental assessment and the NEPA process should be submitted to Steve Spangle, Field Supervisor, Arizona Ecological Services Office, U.S. Fish and Wildlife Service, 2321 West Royal Palm Road, Suite 103, Phoenix, Arizona 85021. Written comments may also be sent by facsimile to (602) 242-2513 or by e-mail to WIFLcomments@fws.gov.

FOR FURTHER INFORMATION CONTACT: Questions regarding the scoping process, preparation of the draft environmental assessment, or the development of a proposed rule designating critical habitat, may be directed to Greg Beatty at telephone number (602) 242-0210 or by electronic mail at greg_beatty@fws.gov.

SUPPLEMENTARY INFORMATION:

Public Comments Solicited

Our NEPA document (e.g., environmental assessment or impact statement) will consider reasonable alternatives for the designation of critical habitat for the southwestern willow flycatcher. At this time, the complexity and geographic range of a potential critical habitat designation preclude us from knowing what the preferred alternative (proposed action) or other alternatives will be. However, we intend to utilize those areas identified as important stream reaches in the Southwestern Willow Flycatcher Recovery Plan (U.S. Fish and Wildlife Service 2002) as a starting point in the process of identifying areas that may meet the definition of critical habitat. We also intend to consider the history of consultations under section 7 of the Act for the species in determining potential beneficial or adverse environmental impacts which may result from the proposed designation. Past consultations have included an evaluation of impacts on the species or its critical habitat from grazing, road development, housing development, water management, stream habitat renovation or restoration, Federal agency land resource management plans, fire abatement activities, electrical transmission structures, and protection of other endangered or threatened species in the riparian area. We wish to ensure that any proposed rule-making to designate critical habitat for the flycatcher and the draft environmental document on the proposed action effectively evaluates all potential issues, including the possible environmental impacts associated with past and future consultations for the species and its habitat.

Therefore, we are seeking comments and suggestions on the following issues for consideration in the preparation of the draft environmental assessment (EA) and the proposed critical habitat designation for the flycatcher. This list is not intended to be all inclusive, and comments on any other pertinent issues are welcome.

Issues related to the scope of the designation:

(1) Published or unpublished information establishing the physical and biological features essential to the conservation of the flycatcher.

(2) Historically or currently occupied areas that may contain the physical and biological features essential to the conservation of the flycatcher and may require special management considerations or protections (i.e., specific stream reaches), and the nature of the special management considerations or protections which may be required.

(3) A detailed description of essential or nonessential flycatcher areas, including maps and distinct beginning and ending points such as roads, tributaries, and so forth.

(4) Published or unpublished information on why identified areas are important (or are no longer important) for flycatcher conservation and whether or not the areas are currently occupied by the species. Specifically, please tell us what these areas provide (or no longer provide) in the way of important flycatcher breeding, feeding, dispersal, and migratory habitat. Please provide us copies of the sources of this information.

(5) Any draft or final management plans, Habitat Conservation Plans, or other agreements that provide a conservation benefit to the flycatcher. Please provide us copies of this information.

(6) What the lateral extent of critical habitat should be from a stream or other water source. We recognize, due to the dynamic nature of riparian habitat, that designating the 100-year floodplain may be appropriate, and, since we would like to take this into consideration we seek your comments.

(7) The existence of flycatcher-specific land management plans.

Issues related to evaluation of the environmental impacts:

The general question on which we are seeking comments is the identification of direct, indirect, beneficial, and adverse effects caused by the prior or new designation of critical habitat for the flycatcher. In addressing this question, you may wish to consider the following issues:

(a) Impacts on floodplains, wetlands, wild and scenic rivers, or ecologically sensitive areas;

(b) Impacts on park lands, cultural or historic resources;

(c) Impacts on human health and safety;

(d) Impacts on air, soil, and water;

(e) Impacts on prime agricultural lands;

(f) Impacts to other endangered or threatened species;

(g) Any of the impacts identified in prior section 7 consultations as discussed above;

(h) Disproportionately high and adverse impacts on minority and low-income populations;

(i) Any other potential or socioeconomic effects; and

(j) Any potential conflicts with other Federal, State, local, or Tribal environmental laws or requirements.

We seek comment from Federal, State, local, or Tribal government agencies, the scientific or business community, or any other interested party. To promulgate a proposed rule and to determine whether to prepare a finding of no significant impact or an environmental impact statement, we will take into consideration all comments and any additional information received. All comments, including names and addresses, will become part of the supporting record.

If you wish to provide comments and/or information, you may submit your comments and materials by any one of several methods (see ADDRESSES). Comments submitted electronically should be in the body of the e-mail message itself or attached as a text file (ASCII), and should not use special characters or encryption. Please also include “Attn: Flycatcher NEPA Scoping,” your full name, and your return address in your e-mail message. Our practice is to make comments, including names and home addresses of respondents, available for public review during regular business hours. Respondents may request that we withhold their home addresses, which we will honor to the extent allowable by law. There also may be circumstances in which we would withhold a respondent's identity, as allowable by law. If you wish for us to withhold your name and/or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at Arizona Ecological Services Office in Phoenix, Arizona (see ADDRESSES).

We will give separate notice of the availability of the draft NEPA compliance document, when completed, so that interested and affected people may comment on the draft and have input into the final decision.

Background

The southwestern willow flycatcher (flycatcher) is a small grayish-green passerine bird (Family Tyrannidae) measuring approximately 5.75 inches. It is one of four currently recognized willow flycatcher subspecies (Phillips 1948; Unitt 1987; Browning 1993). The flycatcher is a neotropical migrant that breeds in the southwestern U.S. during the spring and summer and migrates to Mexico, Central America, and possibly northern South America for the nonbreeding season (Phillips 1948; Stiles and Skutch 1989; Peterson 1990; Ridgely and Tudor 1994; Howell and Webb 1995). The historical breeding range of the flycatcher included riparian areas in southern California, Arizona, New Mexico, western Texas, southwestern Colorado, southern Utah, extreme southern Nevada, and extreme northwestern Mexico (Sonora and Baja) (Unitt 1987).

The flycatcher breeds in dense riparian habitats across the southwestern United States from sea level in California to approximately 8,500 feet (2591 meters) in east-central Arizona and southwestern Colorado (U.S. Fish and Wildlife Service 2002). Flycatchers are known to primarily use Geyer willow (Salix geyeriana), Coyote willow (Salix exigua), Goodding's willow (Salix gooddingii), boxelder (Acer negundo), saltcedar (Tamarix sp.), and Russian olive (Elaeagnus angustifolio) for nesting. Other plant species less commonly used for nesting include buttonbush (Cephalanthus sp.), black twinberry (Lonicera involucrata), cottonwood (Populus spp.), white alder (Alnus rhombifolia), blackberry (Rubus ursinus), stinging nettle (Urtica spp.), and live oak (Quercus agrifolia).

Open water, cienegas (marshy seeps), or saturated soil are typically found in the vicinity of flycatcher territories and nests; flycatchers sometimes nest in areas where nesting substrates were in standing water (U.S. Fish and Wildlife Service 2002). However, hydrological conditions at a particular site can vary remarkably in the arid Southwest within a season and among years. At some locations, particularly during drier years, water or saturated soil is only present early in the breeding season (i.e., May and part of June). However, the total absence of water or visibly saturated soil has been documented at several nesting sites where the river channel has been modified (e.g., creation of pilot channels), where modification of subsurface flows has occurred (e.g., agricultural runoff), or as a result of changes in river channel configuration after flood events (Spencer et al. 1996).

The flycatcher's nesting habitat is dynamic in that it varies in suitability, location, and occupancy over time (Finch and Stoleson 2000). For example, willows which form part of the nesting habitat can develop from seeds to suitability in 5 years, or heavy runoff can remove/reduce habitat suitability in a day. Because river channels, river flow, and floodplains are varied and can change over time, the location and quality of nesting habitat and associated bird reproductive performance may also change over time. The development of flycatcher habitat is a constantly changing process involving maintenance, recycling, and regeneration of habitat.

Declining flycatcher numbers have been attributed to loss, modification, and fragmentation of riparian breeding habitat; loss of wintering habitat; and loss of young by the brown-headed cowbird (Molothrus ater) (U.S. Fish and Wildlife Service 1995, 2002). Willow flycatcher nests are invaded by brown-headed cowbirds, which lay their eggs in the host's nest. Habitat loss and degradation are caused by a variety of factors, including, but not limited to: urban, recreational, and agricultural development; water diversion and groundwater pumping; river channelization; dams and dam operations; and livestock grazing. Fire is an increasing threat to willow flycatcher habitat (U.S. Fish and Wildlife Service 2002), especially when saltcedar vegetation (DeLoach 1991) is the predominant vegetation type and where water diversions and/or groundwater pumping dry out riparian vegetation areas (Sogge et al. 1997).

At the time of the release of the Southwestern Willow Flycatcher Recovery Plan in 2003 (U.S. Fish and Wildlife Service 2002), at least 986 flycatcher territories were known across its current range in California, Nevada, Utah, Colorado, Arizona, and New Mexico. Although previously documented, no recent flycatcher breeding territories have been detected in Texas.

Previous Federal Actions

We listed the flycatcher as endangered, without critical habitat, on February 27, 1995 (U.S. Fish and Wildlife Service 1995). Critical habitat was later designated on July 22 and clarified on August 20, 1997 (U.S. Fish and Wildlife Service 1997a, 1997b). On May 11, 2001, the 10th Circuit Court of Appeals set aside designated critical habitat in those states under the 10th circuit's jurisdiction (New Mexico) and the Service decided to set aside critical habitat designated for the flycatcher in all other states (California and Arizona). The Court instructed that we issue a new critical habitat designation in compliance with the Court's ruling. On May 2, 2002, we sent a scoping letter to over 800 interested parties requesting information in order to develop a new critical habitat proposal. On September 30, 2003, the 10th Circuit Court established a deadline for issuance of the flycatcher critical habitat designation. The Court ordered the Service to have a proposed critical habitat designation completed by September 30, 2004, and final designation by September 30, 2005. The previous flycatcher critical habitat designation and other related documents can be viewed on the Arizona Ecological Services' southwestern willow flycatcher web page. To reach our flycatcher site, type in our Web address (http://arizonaes.fws.gov), click on “document library”, then “documents by species”, and then the words, “southwestern willow flycatcher.”

A final Southwestern Willow Flycatcher Recovery Plan (Recovery Plan) was signed by the U.S. Fish and Wildlife Service's Region 2 Director on August 30, 2002, and released to the public in March 2003. The Plan can also be found at the Arizona Ecological Services' southwestern willow flycatcher web page. The Plan describes the reasons for endangerment and the current status of the flycatcher, addresses important recovery actions, includes detailed issue papers on management issues, and provides recovery goals.

Identification of Environmental Issues and Critical Habitat

The purpose of this scoping process is to aid in the development of (1) a critical habitat proposal and (2) an environmental assessment by collecting pertinent information as described above.

We are the lead Federal agency for compliance with NEPA for this action. The draft environmental assessment will incorporate public concerns in the analysis of impacts associated with the proposed action and associated project alternatives. The draft environmental assessment will be made available for a minimum 30-day public review period, during which comments will be solicited on the adequacy of the document. After scoping, it may be determined that an environmental impact statement is required. If so, a Notice of Intent will be published in the Federal Register. The final NEPA document (e.g., environmental assessment or environmental impact statement) will address the comments we receive during public review and will be furnished to all who commented on the draft environmental document, and made available to anyone who requests a copy. This notice is provided pursuant to regulations for implementing the National Environmental Policy Act of 1969 (40 CFR 1506.6).

A new proposal to designate critical habitat for the southwestern willow flycatcher may be substantially different from the previously designated critical habitat (U.S. Fish and Wildlife Service 1997a, 1997b). The process to designate critical habitat will include at least the following elements: (1) Compilation and analysis of all new biological information on the species; (2) review and update of the administrative record; (3) review of the overall approach to the conservation of the southwestern willow flycatcher by Federal, State, local, or Tribal agencies in the bird's current range and other areas where the species historically occurred; (4) review of available information that pertains to the habitat requirements of this species, including material received during the public comment period from this notice and comments on the listing and previous designation; (5) review of actions identified in the Southwestern Willow Flycatcher Recovery Plan (U.S. Fish and Wildlife Service 2002); (6) development of a precise definition of the primary constituent elements, including a discussion of the specific biological and physical features essential to the survival of the southwestern willow flycatcher; (7) maps of critical habitat within river reaches; (8) analysis of the potential economic and other relevant impacts of designating critical habitat; and (9) analysis of the potential consequences of the preferred alternatives through NEPA.

References Cited

A complete list of all references cited in this notice is available, upon request, from the U.S. Fish and Wildlife Service, Arizona Ecological Services Field Office (see ADDRESSES section).

Authority: The authority for this action is the Endangered Species Act of 1973 (16 U.S.C. 1531 et seq.).

Dated: January 14, 2004.
Craig Manson,
Assistant Secretary for Fish and Wildlife and Parks.

[FR Doc. 04-1298 Filed 1-20-04; 8:45 am]

BILLING CODE 4310-55-P